DEPARTMENT OF THE INTERIOR

Bureau of Land Management

[BLM_OR_FRN_MO4500183397]

Notice of Availability of the Louse Canyon Geographic Management Area Rangeland Health Management Actions Draft Environmental Impact Statement in the Vale District, Oregon

AGENCY: Bureau of Land Management, Interior.

ACTION: Notice of availability.

SUMMARY: In compliance with the National Environmental Policy Act of 1969, as amended, and the Federal Land Policy and Management Act of 1976, as amended, the Bureau of Land Management (BLM) announces the availability of the Draft Environmental Impact Statement (EIS) for the Louse Canyon Geographic Management Area Rangeland Health Management Actions.

DATES: To afford the BLM the opportunity to consider comments in the Draft EIS, please ensure that the BLM receives your comments within 45 days following the date the Environmental Protection Agency (EPA) publishes its Notice of Availability (NOA) of the Draft EIS in the Federal Register. The EPA usually publishes its NOAs on Fridays.

ADDRESSES: The Draft EIS is available for review on the BLM project website at: https://eplanning.blm.gov/eplanning-ui/project/1501965/510.

Written comments related to the Louse Canyon Geographic Management Area Rangeland Health Management Actions Draft EIS may be submitted by any of the following methods:

• Website: https://eplanning.blm.gov/eplanning-ui/project/1501965/510.

• Email: BLM_OR_VL_Louse_Canyon_GMA@blm.gov.

• Mail: LCGMA, BLM Vale District, 100 Oregon Street, Vale, Oregon 97918.

Documents pertinent to this proposal may be examined online at https://eplanning.blm.gov/eplanning-ui/project/1501965/510 and at the BLM Vale District Office.

FOR FURTHER INFORMATION CONTACT: Jonah Blustain, Malheur Field Manager and Project Lead, telephone: 541-473-6250, address: LCGMA, BLM Vale District, 100 Oregon Street, Vale, Oregon 97918; email: BLM_OR_VL_Louse_Canyon_GMA@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Louse Canyon Geographic Management Area encompasses 547,696 acres within seven BLM livestock grazing allotments—five allotments totaling 536,434 acres in Malheur County, Oregon, and two allotments totaling 11,262 acres in Humboldt County, Nevada. The 2015 Greater Sage-grouse Approved Resource Management Plan Amendment and Oregon Record of Decision identified the entire EIS project area as Greater Sage-grouse habitat, 74 percent of which is classified as Priority Habitat Management Area for Greater Sage-grouse, and the remaining 26 percent classified as General Habitat Management Area. Approximately 26 percent of the EIS project area was impacted by the 2012 Long Draw Fire.

A Standards for Rangeland Health and Guidelines for Livestock Grazing Management (Standards and Guidelines) evaluation of the area was completed in 2018 and can be accessed at https://eplanning.blm.gov/eplanning-ui/project/106452/570.

The Draft EIS analyzes a range of alternative livestock management and restoration actions that would allow the Louse Canyon Geographic Management Area's seven livestock grazing allotments to make progress toward meeting the Standards and Guidelines.

Purpose and Need

The purposes for the proposed actions are to make progress toward meeting the BLM Oregon/Washington's Standards for Rangeland Health and Guidelines for Livestock Grazing Management. This includes restoring, maintaining, and enhancing riparian, wetland/aquatic, sagebrush, and other wildlife habitat; addressing invasive species; providing sustainable livestock management in concert with other resource objectives; and renewing term grazing permits.

There is a need to take restoration, livestock grazing, and livestock administration actions to promote ecosystem health, renew livestock grazing permits, and improve livestock grazing management. Portions of the management area are currently not meeting one or more of the Standards and Guidelines as required by 43 CFR subpart 4180 (2005).

Alternatives

The Draft EIS analyzes a no action alternative and six action alternatives.

No Action Alternative: This alternative would make no changes to livestock grazing, and no restoration or livestock administration actions would be implemented.

Alternative A, Condition-Based Flexible Grazing Permits: This adaptive grazing alternative could reduce animal unit months (AUM) below what is currently permitted and/or adjust the season of use to promote healthy rangelands and riparian systems should current environmental conditions change. Restoration and livestock administration actions are proposed to further aid in meeting Standards and Guidelines and promote proper livestock grazing. The restoration actions proposed under this alternative include upland sagebrush and riparian habitat restoration actions such as invasive annual grass treatments, seeding, shrub planting treatments, water trough relocation, and protection and enhancement of riparian areas. The rangeland administration actions proposed under this alternative include water developments, fencing, and livestock trailing and crossing.

Alternative B, Threshold and Response Grazing Permits: Under this alternative, AUMs would remain the same as under the current grazing permit, with an exception in the Bull Flat Pasture of the Anderson Allotment where reductions of 205 AUMs to grazing may be made due to grazing being allocated as unavailable in the Toppin Creek Butte Key Research Natural Area under the 2015 Oregon Approved Resource Management Plan Amendment for Greater Sage-grouse. This action would permit livestock use for year-round grazing and provide a baseline of AUMs. Thresholds and rangeland ecosystem responses would be established to modify annual grazing periods of use to promote healthy rangelands and riparian systems. The proposed restoration and livestock administration actions are identical to Alternative A in order to aid in meeting Standards and Guidelines and promote proper livestock management.

Alternative C, Rest-Rotation and Assigned Individual Use Areas: This alternative would reduce AUMs below what is currently permitted based on carrying capacity and would emphasize resting riparian areas from livestock use during the hot season in July through September. Additionally, this alternative would authorize individual use areas and eliminate community pastures. Alternative C proposes the same restoration and livestock administration actions as Alternative A.

Alternative D, Permittee Proposals: This alternative reflects proposals submitted by the six authorized grazing permittees that hold livestock permits in the project area. This alternative would change the grazing seasons of use and increase the AUMs above the No Action Alternative. Alternative D's proposed restoration and livestock administration actions are the same as Alternative A, except that this alternative proposes additional seeding and brush treatments in three pastures and the installation of new fences.

Alternative E, No Grazing: Under this alternative, no livestock grazing would occur for at least a 10-year period within the seven allotments. No new livestock administration actions would occur and existing livestock improvements, such as fencing and water developments, would be removed. Proposed restoration actions under this alternative would be the same as those described under Alternative A above.

Alternative F, Temporary Suspension of Grazing AUMs and Reduced Restoration: Under Alternative F, the BLM would not issue 10-year grazing permits for any pastures where livestock grazing was identified as a preliminary causal factor for the pasture not achieving the Standards and Guidelines. The pastures that remain available to grazing would retain the same AUMs as the No Action Alternative but would provide the BLM with additional flexibilities to manage the seasons of use. Under Alternative F, the BLM would reduce the acreage where the restoration actions are proposed under Alternatives A through E to focus on restoring higher priority discrete areas. Alternative F's proposed livestock grazing administration actions would be identical to Alternatives A through D, however, the scope of these actions would be reduced to the pastures that remain open to grazing.

Public Participation

The BLM will hold one public meeting regarding the Draft EIS in McDermitt, Nevada. The specific date and location of the meeting will be announced at least 15 days in advance through public notices, media releases, and/or mailings to the BLM Vale District's interested public and stakeholder mailing list.

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Tracy Skerjanec,
Vale Deputy District Manager.

[FR Doc. 2024-28011 Filed 11-27-24; 8:45 am]

BILLING CODE 4331-24-P